FEDERAL COMMUNICATIONS COMMISSION

[OMB 3060-1239; FR ID 329603]

Information Collection Being Reviewed by the Federal Communications Commission Under Delegated Authority

AGENCY: Federal Communications Commission.

ACTION: Notice; request for comments.

SUMMARY: As part of its continuing effort to reduce paperwork burdens, and as required by the Paperwork Reduction Act (PRA) of 1995, the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection burden on small business concerns with fewer than 25 employees. The FCC may not conduct or sponsor a collection of information unless it displays a currently valid OMB control number. No person shall be subject to any penalty for failing to comply with a collection of information subject to the PRA that does not display a valid OMB control number.

DATES: Written PRA comments should be submitted on or before April 10, 2026. If you anticipate that you will be submitting comments but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION:

OMB Control No.: 3060-1239.

Title: Section 97.303(g)(2), Notification Requirement.

Form No.: N/A.

Type of Review: Extension of a currently approved collection.

Respondents: Individuals or Households.

Number of Respondents and Responses: 1,000 respondents; 1,000 responses.

Estimated Time per Response: 10 minutes (0.167 hours).

Frequency of Response: Third party disclosure requirement.

Obligation to Respond: Required to obtain or retain benefits. Statutory authority for this information collection is contained in 47 U.S.C. 154(i), 161, 301, 302, 303(e), 303(f), 303(r), 304, 307 and 332(b).

Total Annual Burden: 167 hours.

Total Annual Cost: No cost.

Needs and Uses: The Commission will submit this information collection to OMB as an extension of a currently approved collection after this 60-day comment period to obtain the full three-year clearance from them.

The Commission will ensure the compatibility of amateur radio operations and Power Line Carrier (PLC) systems that operate in these bands, and will promote the shared use of these bands. As background, in the larger 9-490 kHz band, electric utilities operate Power Line Carrier (PLC) systems on power transmission lines for communications important to the reliability and security of electric service to the public. The Commission found that the identification of transmission lines are not always readily identifiable and that amateur operators may not be able to determine whether PLC systems operate in the relevant bands on the subject transmission lines. For these reasons, the Commission adopted a notification process to ensure that amateur stations seeking to operate in these bands are located outside of a minimum separation distance.

Specifically, paragraph (g)(1) of Section 97.303 states that amateur stations may operate in the 135.7-137.8 kHz band or in the 472-479 kHz band only at fixed locations that are not within a horizontal distance of one kilometer from a transmission line that conducts a power line carrier (PLC) signal within these bands. Horizontal distance is measured from the station's antenna to the closest point on the transmission line. In paragraph (g)(2) of Section 97.303 states that, prior to commencement of operations in these bands, amateur operators must notify the Utilities Telecom Council (UTC) of their intent by submitting their call signs, intended band or bands of operation, and the coordinates of their antenna's fixed location. Amateur stations will be permitted to commence operations after a 30-day period unless UTC notifies the applicant that its requested location is located within one kilometer of PLC systems operating in the same or overlapping frequencies.

Federal Communications Commission.
Marlene Dortch,
Secretary, Office of the Secretary.

[FR Doc. 2026-02507 Filed 2-6-26; 8:45 am]

BILLING CODE 6712-01-P